ENVIRONMENTAL PROTECTION AGENCY

[EPA-HQ-OECA-2009-0536; FRL-9100-2]

Agency Information Collection Activities; Submission to OMB for Review and Approval; Comment Request; Emission Guidelines and Compliance Times for Municipal Solid Waste Landfills (Renewal); EPA ICR No. 1893.05, OMB Control No. 2060-0430

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before February 3, 2010.

ADDRESSES: Submit your comments, referencing Docket ID No. EPA-HQ-OECA-2009-0536, to (1) EPA online using http://www.regulations.gov (our preferred method) or by mail to: EPA Docket Center, Environmental Protection Agency, Mail Code: 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Hillary Ward, Office of Air Quality Planning and Standards, MC E143-01, Environmental Protection Agency, 109 T.W. Alexander Drive, Research Triangle Park, NC 27711; telephone number: (919) 541-3154; fax number: (919) 541-0246; e-mail address: Ward.Hillary@epa.gov.

SUPPLEMENTARY INFORMATION: EPA has submitted the following ICR to OMB for review and approval according to the procedures prescribed in 5 CFR 1320.12. On July 30, 2009 (74 FR 38004), EPA sought comments on this ICR pursuant to 5 CFR 1320.8(d). EPA received no comments. Any additional comments on this ICR should be submitted to EPA and OMB within 30 days of this notice.

EPA has established a public docket for this ICR under Docket ID No. EPA-HQ-OAR-2009-0536, which is available for online viewing at http://www.regulations.gov, or in person viewing at the OECA Docket Center, EPA West, Room 3334, 1301 Constitution Ave., NW., Washington, DC. The EPA/DC Public Reading Room is open from 8:30 a.m. to 4:30 p.m., Monday through Friday, excluding legal holidays. The telephone number for the Reading Room is 202-566-1744, and the telephone number for the OECA Docket is 202-566-1752.

Use EPA's electronic docket and comment system at http://www.regulations.gov to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Emission Guidelines and Compliance Times for Municipal Solid Waste Landfills (Renewal).

ICR Status: This ICR is scheduled to expire on January 31, 2010. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9 and displayed either by publication in the Federal Register or by other appropriate means, such as on the related collection instrument or form, if applicable. The display of OMB control numbers in certain EPA regulations is consolidated in 40 CFR part 9.

Abstract: This ICR is a renewal of current data collection and reporting requirements for Municipal Solid Waste Landfills subject to 40 CFR part 60, subpart Cc emission guidelines. The subpart Cc guidelines are implemented through either State plans or the Federal plan (40 CFR part 62, subpart GGG) that EPA developed for landfills located in States and Indian country that did not develop a State or Tribal plan. State plans were due to EPA by December 12, 1996 and the Federal plan was promulgated on November 8, 1999. The data collection is a mandatory requirement (Clean Air Act section 114(a)(1)).

The information generated by the monitoring, recordkeeping, and reporting requirements described in this ICR is used by the Agency to ensure that facilities affected by the emission guidelines continue to operate the control equipment and achieve compliance with the regulation. The emission guidelines require affected facilities to maintain all records, including the submitted reports and notifications for at least 5 years.

Burden Statement: The annual public reporting and recordkeeping burden for this collection of information is estimated to average 15 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Municipal Solid Waste Landfills.

Estimated Number of Respondents: 559.

Frequency of Response: Annual.

Estimated Total Annual Hour Burden: 46,146.

Estimated Total Annual Cost: $3,956,321, which includes labor costs of $3,229,721 and operation and maintenance costs of $726,600.

Changes in the Estimates: There is an increase of 33,690 hours in the total estimated burden currently identified in the OMB Inventory of Approved ICR Burdens. This increase reflects the recordkeeping and reporting burden for entities under State plans and the Federal plan. The original ICR included only the burden for municipal solid waste landfills subject to the Federal plan for municipal solid waste landfills. This ICR renewal adds the burden imposed by State plans to the burden imposed by the Federal plan.

Dated: December 24, 2009.
Richard T. Westlund,
Acting Director, Collection Strategies Division.

[FR Doc. E9-31148 Filed 12-31-09; 8:45 am]

BILLING CODE 6560-50-P